COMMITTEE FOR PURCHASE FROM PEOPLE WHO ARE BLIND OR SEVERELY DISABLED

Procurement List; Proposed Additions

AGENCY: Committee for Purchase From People Who Are Blind or Severely Disabled.

ACTION: Proposed Additions to the Procurement List.

SUMMARY: The Committee is proposing to add service(s) to the Procurement List that will be furnished by nonprofit agencies employing persons who are blind or have other severe disabilities.

DATES: Comments must be received on or before: November 27, 2022.

ADDRESSES: Committee for Purchase From People Who Are Blind or Severely Disabled, 355 E Street SW, Washington, DC 20024.

FOR FURTHER INFORMATION CONTACT: For further information or to submit comments contact: Michael R. Jurkowski, Telephone: (703) 785-6404, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the service(s) listed below from nonprofit agencies employing persons who are blind or have other severe disabilities.

The following service(s) are proposed for addition to the Procurement List for delivery by the nonprofit agencies listed:

Service(s)

Service Type: Contractor Operated Parts Store

Mandatory for: Sierra Army Depot, Herlong, CA

Designated Source of Supply: South Texas Lighthouse for the Blind, Corpus Christi, TX

Contracting Activity: DEPT OF THE ARMY, W6QK SIAD CONTR OFF

Service Type: Janitorial and Snow Removal

Mandatory for: FAA, ATBM, ATCT, Base Building and Interconnecting Link Walkway, South Burlington, VT

Designated Source of Supply: Northern New England Employment Services, Portland, ME

Contracting Activity: FEDERAL AVIATION ADMINISTRATION, 697DCK REGIONAL ACQUISITIONS SVCS

Service Type: Custodial Service

Mandatory for: U.S. Railroad Retirement Board, U.S. Railroad Retirement Board Headquarters, Chicago, IL

Designated Source of Supply: Bona Fide Conglomerate, Inc., El Cajon, CA

Contracting Activity: RAILROAD RETIREMENT BOARD, RRB—ACQUISITION MGMT DIVISION

Michael R. Jurkowski,
Acting Director, Business Operations.

[FR Doc. 2022-23535 Filed 10-27-22; 8:45 am]

BILLING CODE 6353-01-P